DEPARTMENT OF AGRICULTURE

Forest Service

Ozark-Ouachita National Forests Resource Advisory Committee

AGENCY: Forest Service, USDA.

ACTION: Notice of meeting.

SUMMARY: The Ozark-Ouachita RAC will meet in Waldron, Arkansas. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review Title II project proposals from eligible counties in Arkansas.

DATES: The meeting will be held August 30, 2011, beginning at 3 p.m. and ending at approximately 6 p.m. Alternate meeting dates are September 13, 20, and 22 in case of postponement due to weather, lack of committee quorum, or other unforeseen circumstances. Please call 501-321-5202 prior to August 30th to determine postponement.

ADDRESSES: The meeting will be held at the Scott County Courthouse, 100 W. First Street, Waldron, AR 71958. Written comments may be submitted as described under SUPPLEMENTARY INFORMATION. All comments, including names and addresses when provided, are placed in the record and are available for public inspection and copying. The public may inspect comments received at 100 Reserve Street, Hot Springs, Arkansas. Please call ahead (501-321-5318) to facilitate entry into the building to view comments.

FOR FURTHER INFORMATION CONTACT: Caroline Mitchell, Committee Coordinator, USDA, Ouachita National Forest, P.O. Box 1270, Hot Springs, AR 71902. (501-321-5318). Individuals who use telecommunication devices for the deaf (TDD) may call the Federal Information Relay Service (FIRS) at 1-800-877-8339 between 8 a.m. and 8 p.m., Eastern Standard Time, Monday through Friday. Requests for reasonable accommodation for access to the facility or procedings may be made by contacting the person listed FOR FURTHER INFORMATION CONTACT.

SUPPLEMENTARY INFORMATION: The following business will be conducted: review proposals, review completed proposals. Complete agenda available at https://fs.fed.us/fsfiles/unit/wo/secure_rural_schools.nsf. The agenda will include time for people to make oral statements of three minutes or less. Individuals wishing to make an oral statement should request in writing by August 28, 2011, to be scheduled on the agenda. Send written comments and requests to Ouachita National Forest, P.O. Box 1270, Hot Springs, AR 71902, or by e-mail to carolinemitchell@fs.fed.us, or via facsimile to 501-321-5399. A summary of the meeting will be posted at https://fs.fed.us/fsfiles/unit/wo/secure_rural_schools.nsf within 21 days of the meeting.

July 25, 2011.
Bill Pell,
Designated Federal Official.

[FR Doc. 2011-19202 Filed 7-28-11; 8:45 am]

BILLING CODE 3410-11-P